DEPARTMENT OF TRANSPORTATION

Federal Railroad Administration

Railroad Safety Program Plan

Although not required, notice is hereby given that the Federal Railroad Administration (FRA) has received a Railroad Safety Program Plan (RSPP) from the Union Pacific Railroad Company (UP) pursuant to Title 49 Code of Federal Regulations (CFR) Part 236, Subpart H. A brief summary of the RSPP, including the party submitting it and the requisite docket number, follows.

Union Pacific Railroad Company

(Docket Number FRA-2006-24002)

UP submitted RSPP Version 4.3b, which is its strategic safety planning document for the development and implementation of safety-critical processor-based signal and train control systems or active highway-rail grade crossing warning systems, subject to the provisions of 49 CFR section 234.275 or 49 CFR Part 236, Subpart H.

A previous version (4.3a) of the RSPP has been approved by FRA (Docket FRA-2006-24002). This new version of the RSPP does not require FRA approval, per 49 CFR Part 236, Subpart H. Interested parties are invited to review this and other associated documents at the following:

Web site: http://dms.dot.gov. Click on “Simple Search” on the DOT electronic docket site and enter Docket Number 24002.

U.S. Department of Transportation, Docket Operations, M-30, West Building Ground Floor, Room W12-140, 1200 New Jersey Avenue, SE., Washington, DC, between 9 a.m. and 5 p.m., Monday through Friday, except Federal holidays.

All documents in the public docket are also available for inspection and copying on the Internet at the docket facility's Web site at http://dms.dot.gov.

You may review DOT's complete Privacy Act Statement in the Federal Register published on April 11, 2000 (Volume 65, Number 70; Pages 19477-78). The Statement may also be found at http://dms.dot.gov.

Issued in Washington, DC on August 7, 2007.
Grady C. Cothen, Jr.,
Deputy Associate Administrator for Safety Standards and Program Development.

[FR Doc. E7-15779 Filed 8-10-07; 8:45 am]

BILLING CODE 4910-06-P